POSTAL REGULATORY COMMISSION

Sunshine Act Meetings

TIME AND DATE: Wednesday, February 3, 2010 at 11 a.m.

PLACE: Commission hearing room, 901 New York Avenue, NW., Suite 200, Washington, DC 20268-0001

STATUS: Parts of this meeting will be open to the public. The rest of the meeting will be closed to the public.

MATTERS TO BE CONSIDERED: The items identified below are on the agenda for the Commission's February meeting.

PORTIONS OPEN TO THE PUBLIC: 1. Report on Congressional Committee staff briefings.

2. Report on international activities.

3. Status of Annual Compliance Review.

4. Status of other active cases.

5. Update on recent activities of Joint Periodicals Task Force and statusof anticipated report to the Congress pursuant to section 708 of the Postal Accountability and Enhancement Act of 2006.

6. Status of preliminary assessment of social benefits of the mail.

7. Report on professional papers prepared by Commission staff members for submission to technical conferences.

8. Discussion of correspondence received from the National Governors Association.

9. Report on additions to the Commission's external website.

10. Discussion of audio streaming and podcasting options for Commission meetings and report on audio streaming policies at other Federal agencies.

PORTIONS CLOSED TO THE PUBLIC: 11. Discussion of pending litigation (USPS v. PRC).

12. Personnel matters-alignment of Commission offices with operational goals.

CONTACT PERSON FOR FURTHER INFORMATION: Stephen L. Sharfman, General Counsel, Postal Regulatory Commission, at 202-789-6820 or stephen.sharfman@prc.gov.

Dated: January 25, 2010.
Shoshana M. Grove,
Secretary.

[FR Doc. 2010-1758 Filed 1-25-10; 4:15 pm]

BILLING CODE 7710-FW-S